DEPARTMENT OF THE INTERIOR

Fish and Wildlife Service

50 CFR Part 20

[Docket No. FWS-HQ-MB-2021-0057; FF09M30000-223-FXMB1231099BPP0]

RIN 1018-BF07

Migratory Bird Hunting; Migratory Bird Hunting Regulations on Certain Federal Indian Reservations and Ceded Lands for the 2022-23 Season

AGENCY: Fish and Wildlife Service, Interior.

ACTION: Final rule.

SUMMARY: This rule prescribes special migratory bird hunting regulations for certain Tribes on Federal Indian reservations, off-reservation trust lands, and ceded lands. This rule responds to Tribal requests for U.S. Fish and Wildlife Service (hereinafter “Service” or “we”) recognition of their authority to regulate hunting under established guidelines. This rule allows the establishment of season bag limits and, thus, harvest at levels compatible with populations and habitat conditions.

DATES: This rule takes effect on August 31, 2022.

ADDRESSES: You may inspect comments received on the migratory bird hunting regulations at https://www.regulations.gov at Docket No. FWS-HQ-MB-2021-0057. You may obtain copies of referenced reports from the Division of Migratory Bird Management's website at https://www.fws.gov/program/migratory-birds or at https://www.regulations.gov at Docket No. FWS-HQ-MB-2021-0057.

FOR FURTHER INFORMATION CONTACT: Jerome Ford, U.S. Fish and Wildlife Service, Department of the Interior, (703) 358-2606.

SUPPLEMENTARY INFORMATION:

Background

The Migratory Bird Treaty Act (MBTA) of July 3, 1918 (16 U.S.C. 703 et seq.), authorizes and directs the Secretary of the Department of the Interior, having due regard for the zones of temperature and for the distribution, abundance, economic value, breeding habits, and times and lines of flight of migratory game birds, to determine when, to what extent, and by what means such birds or any part, nest, or egg thereof may be taken, hunted, captured, killed, possessed, sold, purchased, shipped, carried, exported, or transported.

In the June 14, 2022, Federal Register (87 FR 35942), we proposed special migratory bird hunting regulations for the 2022-23 hunting season for certain Indian Tribes, under the guidelines described in the June 4, 1985, Federal Register (50 FR 23467). The guidelines respond to Tribal requests for Service recognition of their reserved hunting rights, and for some Tribes, recognition of their authority to regulate hunting by both Tribal members and nonmembers on their reservations. The guidelines include possibilities for:

(1) On-reservation hunting by both Tribal members and nonmembers, with hunting by nontribal members on some reservations to take place within Federal frameworks but on dates different from those selected by the surrounding State(s);

(2) On-reservation hunting by Tribal members only, outside of usual Federal frameworks for season dates and length, and for daily bag and possession limits; and

(3) Off-reservation hunting by Tribal members on ceded lands, outside of usual framework dates and season length, with some added flexibility in daily bag and possession limits.

In all cases, the regulations established under the guidelines must be consistent with the March 10-September 1 closed season mandated by the 1916 Migratory Bird Treaty with Canada.

In the August 31, 2021, Federal Register (86 FR 48649), we requested that Tribes desiring special hunting regulations in the 2022-23 hunting season submit a proposal including details on:

(1) Harvest anticipated under the requested regulations;

(2) Methods that would be employed to measure or monitor harvest (such as bag checks, mail questionnaires, etc.);

(3) Steps that would be taken to limit level of harvest, where it could be shown that failure to limit such harvest would adversely impact the migratory bird resource; and

(4) Tribal capabilities to establish and enforce migratory bird hunting regulations.

No action is required if a Tribe wishes to observe the hunting regulations established by the State(s) in which an Indian reservation is located. We have successfully used the guidelines since the 1985-86 hunting season. We finalized the guidelines beginning with the 1988-89 hunting season (53 FR 31612, August 18, 1988).

The final rule described here is the final in the series of proposed and final rulemaking documents for migratory bird hunting regulations on certain Federal Indian reservations and ceded lands for the 2022-23 season. This rule sets hunting seasons, hours, areas, and limits for migratory game bird species on reservations and ceded territories. This final rule is the culmination of the rulemaking process for the Tribal migratory game bird hunting seasons, which started with the August 31, 2021, proposed rule. This final rule sets the migratory bird hunting regulations on certain Federal Indian reservations and ceded lands for the 2022-23 season.

Population Status and Harvest

Each year we publish reports that provide detailed information on the status and harvest of certain migratory game bird species. These reports are available at the address indicated under FOR FURTHER INFORMATION CONTACT or from our website at https://www.fws.gov/library/collections/population-status, or https://www.fws.gov/library/collections/migratory-bird-hunting-activity-and-harvest-reports.

We used the following annual reports published in August 2021 in the development of proposed frameworks for the migratory bird hunting regulations: Adaptive Harvest Management, 2022 Hunting Season; American Woodcock Population Status, 2021; Band-tailed Pigeon Population Status, 2021; Migratory Bird Hunting Activity and Harvest During the 2019-20 and 2020-21 Hunting Seasons; Mourning Dove Population Status, 2021; Status and Harvests of Sandhill Cranes, Mid-continent, Rocky Mountain, Lower Colorado River Valley and Eastern Populations, 2021; and Waterfowl Population Status, 2021.

Our long-term objectives continue to include providing opportunities to harvest portions of certain migratory game bird populations and to limit harvests to levels compatible with each population's ability to maintain healthy, viable numbers. Having taken into account the zones of temperature and the distribution, abundance, economic value, breeding habits, and times and lines of flight of migratory birds, we conclude that the hunting seasons provided for herein are compatible with the current status of migratory bird populations and long-term population goals. Additionally, we are obligated to, and do, give serious consideration to all information received during the public comment period.

Comments and Issues Concerning Tribal Proposals

For the 2022-23 migratory bird hunting season, we proposed regulations (87 FR 35942, June 14, 2022) for 29 Tribes or Indian groups that followed the 1985 guidelines and were considered appropriate for final rulemaking.

The comment period for the June 14, 2022, proposed rule closed on July 14, 2022. We received one comment on our proposed rule; the commenter requested not to allow the killing of migratory birds. The Service appreciates the opportunity to establish special migratory bird hunting regulations in recognition of the Tribes' reserved hunting rights, and for some Tribes, recognition of their authority to regulate hunting by both Tribal members and nonmembers on their reservations. We addressed this one comment in our final rule to set 2022-23 frameworks for migratory bird hunting regulations (87 FR 42598, July 15, 2022).

Required Determinations

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our record of decision on July 26, 2013 (78 FR 45376). We also address NEPA compliance for waterfowl hunting frameworks through the annual preparation of separate environmental assessments, the most recent being “Duck Hunting Regulations for 2022-23,” with its corresponding March 2022 finding of no significant impact. In addition, an environmental assessment entitled “Guidelines for Migratory Bird Hunting Regulations on Federal Indian Reservations and Ceded Lands” is available from the person listed above under the caption FOR FURTHER INFORMATION CONTACT.

Endangered Species Act Consideration

Section 7 of the Endangered Species Act of 1973, as amended (16 U.S.C. 1531 et seq.), provides that the Secretary shall insure that any action authorized, funded, or carried out is not likely to jeopardize the continued existence of any endangered species or threatened species or result in the destruction or adverse modification of critical habitat. After we published the August 31, 2021, proposed rule, we conducted formal consultations to ensure that actions resulting from these regulations would not likely jeopardize the continued existence of endangered or threatened species or result in the destruction or adverse modification of their critical habitat. Findings from these consultations are included in a biological opinion, which concluded that the regulations are not likely to jeopardize the continued existence of any endangered or threatened species. The biological opinion resulting from this section 7 consultation is available for public inspection at the address indicated under ADDRESSES.

Regulatory Planning and Review—Executive Orders 12866 and 13563

Executive Order (E.O.) 12866 provides that the Office of Information and Regulatory Affairs (OIRA) in the Office of Management and Budget (OMB) will review all significant rules. OIRA has determined that the annual migratory bird hunting regulations are significant because they have an annual effect of $100 million or more on the economy.

E.O. 13563 reaffirms the principles of E.O. 12866 while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

An economic analysis was prepared for the 2022-23 migratory bird hunting season. This analysis was based on data from the 2016 National Survey of Fishing, Hunting, and Wildlife-Associated Recreation (National Survey), the most recent year for which data are available (see discussion under Regulatory Flexibility Act, below). This analysis estimated consumer surplus for three alternatives for duck hunting regulations. As defined by OMB Circular A-4, consumers' surplus is the difference between what a consumer pays for a unit of a good or service and the maximum amount the consumer would be willing to pay for that unit. The duck hunting regulatory alternatives are (1) issue restrictive regulations allowing fewer days than those issued during the 2021-22 season, (2) issue moderate regulations allowing more days than those in alternative 1, and (3) issue liberal regulations similar to the regulations in the 2021-22 season. For the 2022-23 season, we chose alternative 3, with an estimated consumer surplus across all flyways of $329 million. We also chose alternative 3 for the 2009-10 through 2021-22 seasons. The 2022-23 analysis is part of the record for this rule and is available at https://www.regulations.gov at Docket No. FWS-HQ-MB-2021-0057.

Regulatory Flexibility Act

The annual migratory bird hunting regulations have a significant economic impact on substantial numbers of small entities under the Regulatory Flexibility Act (5 U.S.C. 601 et seq.). We prepare regulatory flexibility analyses, updated annually, to analyze the economic impacts of the annual hunting regulations on small business entities. The primary source of information about hunter expenditures for migratory game bird hunting is the National Survey, which is generally conducted at 5-year intervals. The 2022 analysis is based on the 2016 National Survey and the U.S. Department of Commerce's County Business Patterns, from which it is estimated that migratory bird hunters would spend approximately $2.2 billion at small businesses in 2022. Copies of the analysis are available upon request from the person listed above under the caption FOR FURTHER INFORMATION CONTACT, or from https://www.regulations.gov at Docket No. FWS-HQ-MB-2021-0057.

Small Business Regulatory Enforcement Fairness Act

This rule is a major rule under 5 U.S.C. 804(2), the Small Business Regulatory Enforcement Fairness Act. For the reasons outlined above, this rule will have an annual effect on the economy of $100 million or more. However, because this rule establishes hunting seasons, which are time sensitive, we do not plan to defer the effective date under the exemption contained in 5 U.S.C. 808(1).

Paperwork Reduction Act

This rule does not contain any new collection of information that requires approval by the Office of Management and Budget (OMB) under the Paperwork Reduction Act of 1995 (44 U.S.C. 3501 et seq.). OMB has previously approved the information collection requirements associated with migratory bird surveys and the procedures for establishing annual migratory bird hunting seasons under the following OMB control numbers:

• 1018-0019, “North American Woodcock Singing Ground Survey” (expires 02/29/2024).

• 1018-0023, “Migratory Bird Surveys, 50 CFR 20.20” (expires 04/30/2023). Includes Migratory Bird Harvest Information Program, Migratory Bird Hunter Surveys, Sandhill Crane Survey, and Parts Collection Survey.

• 1018-0171, “Establishment of Annual Migratory Bird Hunting Seasons, 50 CFR part 20” (expires 10/31/2024).

You may view the information collection request(s) at http://www.reginfo.gov/public/do/PRAMain. An agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of E.O. 12988.

Takings Implication Assessment

In accordance with E.O. 12630, this rule, authorized by the Migratory Bird Treaty Act, does not have significant takings implications and does not affect any constitutionally protected property rights. This rule will not result in the physical occupancy of property, the physical invasion of property, or the regulatory taking of any property. In fact, this rule will allow hunters to exercise otherwise unavailable privileges and, therefore, will reduce restrictions on the use of private and public property.

Energy Effects—Executive Order 13211

E.O. 13211 requires agencies to prepare statements of energy effects when undertaking certain actions. While this rule is a significant regulatory action under E.O. 12866, it is not expected to adversely affect energy supplies, distribution, or use. Therefore, this action is not a significant energy action, and no statement of energy effects is required.

Government-to-Government Relationship With Tribes

In accordance with the President's memorandum of April 29, 1994, “Government-to-Government Relations with Native American Tribal Governments” (59 FR 22951), E.O. 13175, and 512 DM 2, we have evaluated possible effects on Federally recognized Indian Tribes and have determined that there are de minimis effects on Indian trust resources. We solicited proposals for special migratory bird hunting regulations for certain Tribes on Federal Indian reservations, off-reservation trust lands, and ceded lands for the 2022-23 migratory bird hunting season in the August 31, 2021, proposed rule (86 FR 48649). The resulting proposals were published in a separate proposed rule (87 FR 35942, June 14, 2022). Through this process to establish annual hunting regulations, we regularly coordinate with Tribes that are affected by this rule.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and Tribes to determine which seasons meet their individual needs. Any State or Tribe may be more restrictive in its regulations than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with E.O. 13132, these regulations do not have significant federalism effects and do not have sufficient federalism implications to warrant the preparation of a federalism summary impact statement.

Regulations Promulgation

The rulemaking process for migratory game bird hunting, by its nature, operates under a time constraint as seasons must be established each year or hunting seasons remain closed. However, we intend that the public be provided extensive opportunity for public input and involvement in compliance with Administrative Procedure Act requirements (5 U.S.C. 551 et seq.). Thus, when the preliminary proposed rulemaking was published on August 31, 2021 (86 FR 48649), we established what we concluded were the longest periods possible for public comment and the most opportunities for public involvement. We also provided notification of our participation in multiple Flyway Council meetings, opportunities for additional public review and comment on all Flyway Council proposals for regulatory change, and opportunities for additional public review during the Service Regulations Committee meeting. Therefore, sufficient public notice and opportunity for involvement have been given to affected persons regarding the migratory bird hunting frameworks for the 2022-23 hunting season.

For the reasons cited above, we find that “good cause” exists, within the terms of the Administrative Procedure Act at 5 U.S.C. 553(d)(3) for these regulations to take effect immediately upon publication.

Accordingly, with each participating Tribe having had an opportunity to participate in selecting the hunting seasons desired for its reservation or ceded territory on those species of migratory birds for which open seasons are now prescribed, and consideration having been given to all other relevant matters presented, certain sections of title 50, chapter I, subchapter B, part 20, subpart K, are hereby amended as set forth below.

List of Subjects in 50 CFR Part 20

Exports, Hunting, Imports, Reporting and recordkeeping requirements, Transportation, Wildlife.

Signing Authority

On August 25, 2022, Shannon Estenoz, Assistant Secretary for Fish and Wildlife and Parks, approved this action for publication. On August 25, 2022, Shannon Estenoz also authorized the undersigned to sign this document electronically and submit it to the Office of the Federal Register for publication as an official document of the Department of the Interior.

Accordingly, part 20, subchapter B, chapter I of title 50 of the Code of Federal Regulations is amended as follows:

PART 20—MIGRATORY BIRD HUNTING

1. The authority citation for part 20 continues to read as follows:

Authority: 16 U.S.C. 703 et seq., and 16 U.S.C. 742a-j.

(Note: The following hunting regulations provided for by 50 CFR 20.110 will not appear in the Code of Federal Regulations because of their seasonal nature).

2. Section 20.110 is revised to read as follows:

§ 20.110 Seasons, limits, and other regulations for certain Federal Indian reservations, Indian Territory, and ceded lands.

Unless specifically provided for in the following entries, all of the regulations contained in 50 CFR part 20 apply to the seasons listed herein.

(a) Confederated Salish and Kootenai Tribes, Flathead Indian Reservation, Pablo, Montana (Tribal Members and Nontribal Hunters).

Tribal Members Only

Ducks (Including Mergansers), Coots, and Geese

Season Dates: September 1, 2022-March 10, 2023.

Daily Bag and Possession Limits: The Tribe does not have specific bag and possession restrictions for Tribal members. The season on harlequin duck is closed.

Nontribal Hunters

Ducks (Including Mergansers), Coots, and Geese

Season Dates: Same as Pacific Flyway portion of Montana.

Daily Bag and Possession Limits: Same as Pacific Flyway portion of Montana.

General Conditions: Tribal and nontribal hunters must comply with all basic Federal migratory bird hunting regulations contained in 50 CFR part 20 regarding manner of taking. In addition, shooting hours are sunrise to sunset, and each waterfowl hunter 16 years of age or older must carry on his/her person a valid Migratory Bird Hunting and Conservation Stamp (Duck Stamp) signed in ink across the stamp face. Special regulations established by the Confederated Salish and Kootenai Tribes also apply on the reservation.

(b) Fond du Lac Band of Lake Superior Chippewa Indians, Cloquet, Minnesota (Tribal Members Only).

Ducks

1. 1854 and 1837 Ceded Territories:

Season Dates: September 1-November 30, 2022.

Daily Bag Limits: 18 ducks, including no more than 12 mallards or 9 of any other species.

2. Reservation:

Season Dates: September 1-November 30, 2022.

Daily Bag Limits: 12 ducks, including no more than 8 mallards or 6 of any other species.

Mergansers

1. 1854 and 1837 Ceded Territories:

Season Dates: September 1-November 30, 2022.

Daily Bag Limits: 15 mergansers, including no more than 6 hooded mergansers.

2. Reservation:

Season Dates: September 1-November 30, 2022.

Daily Bag Limits: 10 mergansers, including no more than 4 hooded mergansers.

Canada/Cackling Geese: All Areas

Season Dates: September 1-November 30, 2022.

Daily Bag Limits: 20 Canada/cackling geese.

Sandhill Cranes: 1854 and 1837 Ceded Territories Only

Season Dates: September 1-November 30, 2022.

Daily Bag Limits: 3 sandhill cranes. A crane carcass tag is required prior to hunting.

Tundra and Trumpeter Swans: Reservation Only

Season Dates: September 1-November 30, 2022.

Daily Bag Limits: 2 swans. Swan carcass tags are required prior to hunting.

Coots and Common Gallinules: All Areas

Season Dates: September 1-November 30, 2022.

Daily Bag Limits: 20 coots and common gallinules in the aggregate.

Sora and Virginia Rails: All Areas

Season Dates: September 1-November 30, 2022.

Daily Bag Limits: 25 sora and Virginia rails in the aggregate.

Snipe: All Areas

Season Dates: September 1-November 30, 2022.

Daily Bag Limits: 8 snipe.

Woodcock: All Areas

Season Dates: September 1-November 30, 2022.

Daily Bag Limits: 3 woodcock.

Mourning Doves: All Areas

Season Dates: September 1-November 30, 2022.

Daily Bag Limits: 30 mourning doves.

General Conditions:

1. While hunting waterfowl, a Tribal member must carry on his/her person a valid Ceded Territory License.

2. Shooting hours for migratory birds are one-half hour before sunrise to one-half hour after sunset.

3. Except as otherwise noted, Tribal members will be required to comply with Tribal codes that will be no less restrictive than the provisions of chapter 10 of the Model Off-Reservation Code. Except as modified by Service rules, these amended regulations parallel Federal requirements in 50 CFR part 20 as to hunting methods, transportation, sale, exportation, and other conditions generally applicable to migratory bird hunting.

4. Band members in each zone will comply with State regulations providing for closed and restricted waterfowl hunting areas.

5. There are no possession limits for migratory birds. For purposes of enforcing bag limits, all migratory birds in the possession or custody of Band members on ceded lands will be considered to have been taken on those lands unless tagged by a Tribal or State conservation warden as having been taken on-reservation. All migratory birds that fall on reservation lands will not count as part of any off-reservation bag or possession limit.

(c) Grand Traverse Band of Ottawa and Chippewa Indians, Suttons Bay, Michigan (Tribal Members Only).

Ducks

Season Dates: September 1, 2022-January 20, 2023.

Daily Bag Limits: 35 ducks, including no more than 8 pintail, 4 canvasbacks, 5 hooded mergansers, 8 black ducks, 10 wood ducks, 8 redheads, and 20 mallards (only 10 of which may be females).

Canada/Cackling Geese and Snow Geese

Season Dates: September 1, 2022-February 15, 2023.

Daily Bag Limits: 15 geese.

White-Fronted Geese and Brant

Season Dates: September 20-December 30, 2022.

Daily Bag Limits: 5 geese.

Rails (Sora and Virginia Rail), Snipe, and Woodcock

Season Dates: September 1-November 14, 2022.

Daily Bag Limits: 10 rails, 10 snipe, and 5 woodcock.

Mourning Doves

Season Dates: September 1-November 14, 2022.

Daily Bag Limits: 25 mourning doves.

Sandhill Cranes

Season Dates: September 1-November 14, 2022.

Daily Bag and Possession Limits: 2 sandhill cranes, with a season limit of 4.

General Conditions: A valid Grand Traverse Band Tribal license is required and must be in possession before taking any wildlife. Shooting hours for migratory birds are one-half hour before sunrise to one-half hour after sunset. All other basic regulations contained in 50 CFR part 20 are valid. Other Tribal regulations apply and may be obtained at the Tribal office in Suttons Bay, Michigan.

(d) Great Lakes Indian Fish and Wildlife Commission, Odanah, Wisconsin (Tribal Members Only).

The 2022-23 waterfowl hunting season regulations apply to all treaty areas (except where noted):

Ducks

Season Dates: September 1-December 31, 2022.

Daily Bag Limits: 50 ducks in the 1837 and 1842 Treaty Area; 30 ducks in the 1836 Treaty Area.

Mergansers

Season Dates: September 1-December 31, 2022.

Daily Bag Limits: 10 mergansers.

Geese

Season Dates: September 1-December 31, 2022. In addition, any portion of the ceded territory that is open to State-licensed hunters for goose hunting outside of these dates will also be open concurrently for Tribal members.

Daily Bag Limits: 20 geese in the aggregate.

Coots and Common Gallinules

Season Dates: September 1-December 31, 2022.

Daily Bag Limits: 20 coots and common gallinules in the aggregate.

Sora and Virginia Rails

Season Dates: September 1-December 31, 2022.

Daily Bag and Possession Limits: The daily bag limit is 20 sora and Virginia rails in the aggregate, and the possession limit is 25 sora and Virginia rails in the aggregate.

Snipe

Season Dates: September 1-December 31, 2022.

Daily Bag Limits: 16 snipe.

Woodcock

Season Dates: 1836 Ceded Territory: September 1-December 31, 2022; 1837 and 1842 Ceded Territories: September 3-December 31, 2022.

Daily Bag Limits: 10 woodcock.

Mourning Doves: 1837 and 1842 Ceded Territories only

Season Dates: September 1-November 29, 2022.

Daily Bag Limits: 15 mourning doves.

Sandhill Cranes

Season Dates: September 1-December 31, 2022.

Daily Bag Limits: 10 sandhill cranes and no seasonal bag limit in the 1837 and 1842 Treaty areas; 3 sandhill cranes and no seasonal bag limit in the 1836 Treaty area.

Swans: 1837 and 1842 Ceded Territories only

Season Dates: September 1-December 31, 2022.

Daily Bag Limits: 5 swans. All harvested swans must be registered by presenting the fully feathered carcass to a Tribal registration station or GLIFWC warden. If the total number of trumpeter swans harvested reaches 20, the swan season will be closed by emergency Tribal rule.

General Conditions:

1. All Tribal members who wish to hunt are required to obtain a valid Tribal waterfowl hunting permit.

2. Except as otherwise noted, Tribal members must comply with Tribal codes that are no less restrictive than the model ceded territory conservation codes approved by Federal courts in the Lac Courte Oreilles v. State of Wisconsin (Voigt) and Mille Lacs Band v. State of Minnesota cases. Chapter 10 in each of these model codes regulates ceded territory migratory bird hunting. Both versions of chapter 10 parallel Federal requirements as to hunting methods, transportation, sale, exportation, and other conditions generally applicable to migratory bird hunting. They also automatically incorporate by reference the Federal migratory bird regulations.

3. Particular regulations of note include:

A. Nontoxic shot is required for all waterfowl hunting by Tribal members.

B. Tribal members in each zone must comply with Tribal regulations providing for closed and restricted waterfowl hunting areas. These regulations generally incorporate the same restrictions contained in parallel State regulations.

C. There are no possession limits, with the exception of 25 rails (in the aggregate) and 20 trumpeter swans total. For purposes of enforcing bag limits, all migratory birds in the possession and custody of Tribal members on ceded lands will be considered to have been taken on those lands unless tagged by a Tribal or State conservation warden as taken on reservation lands. All migratory birds that fall on reservation lands will not count as part of any off-reservation bag or possession limit.

D. There are no shell limit restrictions.

E. Hunting hours are from 30 minutes before sunrise to 30 minutes after sunset, except that, within the 1837 and 1842 Ceded Territories, hunters may use non-mechanical nets or snares that are operated by hand to take those birds subject to an open hunting season at any time (see further explanation provided in G.). Capturing, without the aid of other devices (i.e., by hand), and immediately killing birds subject to an open season may also be done regardless of the time of day.

F. Within the 1837 and 1842 Ceded Territories, Tribal members may use electronic calls. Individuals using these devices must complete a hunt survey for each hunt where electronic calls are used. Required information includes the date, time, and location of the hunt; number of hunters; the number of each species harvested per hunting event; if other hunters were in the area, any interactions with other hunters; and other information deemed appropriate. Survey results must be summarized and documented in a Commission report, which will be submitted to the Service. This application will be replicated for 2 years (through the 2023-24 season), after which a full evaluation will be completed.

G. Within the 1837 and 1842 Ceded Territories, Tribal members may use non-mechanical, hand-operated nets (i.e., throw/cast nets or handheld nets typically used to land fish) and hand-operated snares and may chase and capture migratory birds without the aid of hunting devices (i.e., by hand). Non-attended nets or snares are not authorized. Tribal members using nets or snares to take migratory birds, or taking birds by hand, must complete a hunt survey for each hunt where these methods are used and submit the data to the Commission when requested at the end of the season. Required information includes the date, time, and location of the hunt; number of hunters; the number of each species harvested per hunting event; and other information deemed appropriate. Results must be summarized and documented in a Commission report, which will be submitted to the Service. This application will be replicated for 2 years (through the 2023-24 season), after which a full evaluation will be completed.

(e) Jicarilla Apache Tribe, Jicarilla Indian Reservation, Dulce, New Mexico (Tribal Members and Nontribal Hunters).

Ducks (Including Mergansers)

Season Dates: October 8-November 30, 2022.

Daily Bag and Possession Limits: The daily bag limit is 7, including no more than 2 hen mallards, 1 pintail, 2 redheads, 2 canvasback, and 2 scaup. The possession limit is three times the daily bag limit.

Canada/Cackling Geese

Season Dates: October 8-November 30, 2022.

Daily Bag and Possession Limits: 2 and 4, respectively.

General Conditions: Tribal and nontribal hunters must comply with all basic Federal migratory bird hunting regulations in 50 CFR part 20 regarding shooting hours and manner of taking. In addition, each waterfowl hunter 16 years of age or older must carry on his/her person a valid Migratory Bird Hunting and Conservation Stamp (Duck Stamp) signed in ink across the stamp face. Special regulations established by the Jicarilla Tribe also apply on the reservation.

(f) Kalispel Tribe, Kalispel Reservation, Usk, Washington (Tribal Members and Nontribal Hunters).

Tribal Members on Reservation Lands

Ducks and Geese

Season Dates: September 24, 2022-January 31, 2023.

Tribal Members on Ceded Lands

Ducks

Season Dates: October 1, 2022-January 31, 2023.

Geese

Season Dates: September 3, 2022-January 31, 2023.

Daily Bag and Possession Limits: Same as those for the duck and goose seasons in the State of Washington.

Nontribal Hunters on Tribally Managed Lands

Ducks

Season Dates: September 24-25, 2022, and October 1, 2022-January 8, 2023.

Geese

Season Dates: The earliest possible opening date and to remain open for the maximum number of days allowed by Federal frameworks (107 days from September 24, 2022-January 8, 2023). Hunters should obtain further information on specific hunt days from the Kalispel Tribe.

Daily Bag and Possession Limits: Same as those for the duck and goose seasons in the State of Washington.

General Conditions: All other State and Federal regulations contained in 50 CFR part 20, such as use of nontoxic shot and possession of a signed Migratory Bird Hunting and Conservation Stamp (Duck Stamp), apply.

(g) Klamath Tribe, Chiloquin, Oregon (Tribal Members Only).

Ducks, Coots, and Geese

Season Dates: October 5, 2022-January 31, 2023.

Daily Bag and Possession Limits: 9 ducks, 9 coots, and 9 geese, with possession limits two times the daily bag limit.

General Conditions: Nontoxic shot is required. Use of live decoys, bait, and commercial use of migratory birds are prohibited. Waterfowl may not be pursued or taken while using motorized craft. Shooting hours are one-half hour before sunrise to one-half hour after sunset.

(h) Leech Lake Band of Ojibwe, Cass Lake, Minnesota (Tribal Members Only).

Ducks

Season Dates: September 3-December 31, 2022.

Daily Bag and Possession Limits: 10 ducks, including no more than 5 pintail, 5 canvasbacks, and 5 black ducks. Possession limits are two times the daily bag limit.

Geese

Season Dates: September 3-December 31, 2022.

Daily Bag and Possession Limits: 10 geese. Possession limits are two times the daily bag limit.

General Conditions: Shooting hours are one-half hour before sunrise to one-half hour after sunset. Only steel or other approved nontoxic shot may be used to harvest waterfowl. Waterfowl may not be pursued or taken while under the power of a motorized watercraft. Use of live decoys, bait, and commercial use of migratory birds is prohibited. No hunting is allowed on or near a wild rice bed that is being actively harvested. No travel by boat is allowed within a wild rice bed. Nonnative species must be removed from watercraft and hunting equipment before leaving an access point. Several waterfowl refuges are closed to the taking of waterfowl.

(i) Little River Band of Ottawa Indians, Manistee, Michigan (Tribal Members Only).

Ducks and Merganser

Season Dates: September 1, 2022-January 31, 2023.

Daily Bag and Possession Limits: 12 ducks, including no more than 2 pintail, 4 canvasbacks, 4 black ducks, 6 wood ducks, 4 redheads, 8 mallards (only 4 of which may be female), 10 common and red-breasted mergansers, and 2 hooded mergansers. Possession limits are three times the daily bag limit.

Coots and Gallinules

Season Dates: September 14, 2022-January 31, 2023.

Daily Bag and Possession Limits: 30 coots and gallinules and 60 in possession.

Geese

Season Dates: September 1, 2022-February 15, 2023.

Daily Bag and Possession Limits: 10 geese. Possession limits are three times the daily bag limit.

Woodcock, Snipe, and Rails (Sora and Virginia Rails)

Season Dates: September 1-December 31, 2022.

Daily Bag and Possession Limits: 5 woodcock and 25 snipe or rails in the aggregate. Possession limits for all species are three times the daily bag limit.

Mourning Doves

Season Dates: September 1, 2022-March 1, 2023.

Daily Bag and Possession Limits: 25 mourning doves. The possession limit is three times the daily bag limit.

Sandhill Cranes

Season Dates: September 1-December 31, 2022.

Daily Bag and Possession Limits: 2 sandhill cranes. The possession limit is three times the daily bag limit.

General Conditions:

1. All Tribal members who wish to hunt are required to obtain a valid Tribal resource card and 2022-23 hunting license.

2. Except as modified by Service rules, these amended regulations parallel all Federal regulations contained in 50 CFR part 20. Shooting hours are from one-half hour before sunrise to sunset.

3. Particular regulations of note include:

A. Nontoxic shot is required for all waterfowl hunting by Tribal members.

B. Tribal members in each zone must comply with Tribal regulations providing for closed and restricted waterfowl hunting areas. These regulations generally incorporate the same restrictions contained in parallel State regulations.

4. Tribal members hunting in Michigan will comply with Tribal codes that contain provisions parallel to Michigan law regarding duck blinds and decoys.

(j) The Little Traverse Bay Bands of Odawa Indians, Petoskey, Michigan (Tribal Members Only).

Ducks and Mergansers

Season Dates: September 1, 2022-January 31, 2023.

Daily Bag Limits: 20 ducks and 10 mergansers, including no more than 5 female mallards, 5 pintail, 5 canvasbacks, 5 scaup, 5 hooded mergansers, 5 black ducks, 5 wood ducks, and 5 redheads.

Canada/Cackling Geese

Season Dates: September 1, 2022-February 8, 2023.

Daily Bag Limits: 20 Canada/cackling geese.

Woodcock

Season Dates: September 1-December 1, 2022.

Daily Bag Limits: 10 woodcock.

Snipe

Season Dates: September 1-December 31, 2022.

Daily Bag Limits: 15 snipe.

Mourning Doves

Season Dates: September 1-November 14, 2022.

Daily Bag Limits: 15 mourning doves.

Sora and Virginia Rails

Season Dates: September 1-December 31, 2022.

Daily Bag Limits: 20 sora and 20 Virginia rails.

Coots and Gallinules

Season Dates: September 1-December 31, 2022.

Daily Bag Limits: 20 coots and 20 gallinules.

Sandhill Crane

Season Dates: September 1-December 1, 2022.

Daily Bag Limit: 2 sandhill cranes.

General Conditions: Possession limits are twice the daily bag limits. All other Federal regulations contained in 50 CFR part 20 apply, except the Tribe allows the use of electronic calls for all species. The Tribe has agreed to extend the experimental Memorandum of Agreement with the Service regarding the use of electronic calling through the 2022-23 season

(k) Lower Brule Sioux Tribe, Lower Brule Reservation, Lower Brule, South Dakota (Tribal Members and Nontribal Hunters).

Nontribal Hunters

Ducks, Mergansers, and Coots

Season Dates: October 1, 2022-January 5, 2023.

Daily Bag and Possession Limits: 6 ducks (including mergansers), including no more than 2 female mallards and 5 mallards in total, 2 pintail, 2 redheads, 2 canvasbacks, 3 wood duck, 3 scaup, and 1 mottled duck. Two bonus blue-winged teal are allowed during October 1-16, 2022. Coot daily bag limits are 15. Possession limits are three times the daily bag limits.

Canada/Cackling Geese

Season Dates: October 29, 2022-February 12, 2023.

Daily Bag and Possession Limits: 6 Canada/cackling geese, and possession limits are three times the daily bag limit.

White-Fronted Geese

Season Dates: October 22, 2022-January 17, 2023.

Daily Bag and Possession Limits: 2 white-fronted geese, and possession limits are three times the daily bag limit.

Light Geese

Season Dates: October 22, 2022-February 5, 2023.

Daily Bag and Possession Limits: 50 light geese, with no possession limits.

Doves

Season Dates: September 1-November 29, 2022.

Daily Bag and Possession Limits: 15 doves, and possession limits are three times the daily bag limit.

Tribal Members

Duck, Mergansers, and Coots

Season Dates: September 1, 2022-March 10, 2023.

Daily Bag and Possession Limits: 6 ducks, including no more than 2 female mallards and 5 mallards in total, 1 pintail, 2 redheads, 2 canvasbacks, 3 wood ducks, 3 scaup, 2 bonus teal during the first 16 days of the season, and 2 mottled ducks; 5 mergansers, only 2 of which can be hooded mergansers; and 15 coot. Possession limits are three times the daily bag limits.

Canada/Cackling Geese

Season Dates: September 1, 2022-March 10, 2023.

Daily Bag and Possession Limits: 6 Canada/cackling geese. The possession limits are three times the daily bag limit.

White-Fronted Geese

Season Dates: September 1, 2022-March 10, 2023.

Daily Bag and Possession Limits: 3 white-fronted geese. The possession limits are three times the daily bag limit.

Light Geese

Season Dates: September 1, 2022-March 10, 2023.

Daily Bag and Possession Limits: 50 light geese, with no possession limits.

Doves

Season Dates: September 1, 2022-January 31, 2023.

Daily Bag and Possession Limits: 15 doves. The possession limits are three times the daily bag limit.

General Conditions: All hunters must comply with the basic Federal migratory bird hunting regulations in 50 CFR part 20, including the use of steel shot and shooting hours. Nontribal hunters must possess a valid Migratory Bird Hunting and Conservation Stamp. The Lower Brule Sioux Tribe has an official Conservation Code to which hunters must adhere when hunting in areas subject to control by the Tribe.

(l) Lower Elwha Klallam Tribe, Port Angeles, Washington (Tribal Members Only).

Ducks (Including Mergansers), and Coots

Season Dates: September 4, 2022-January 2, 2023.

Daily Bag and Possession Limits: 7 ducks, including no more than 2 female mallards, 1 pintail, 1 canvasback, and 2 redheads. The daily bag and possession limit of harlequin ducks is 1 per season. The coot daily bag limits are 25. The possession limits are two times the daily bag limit, except as noted above.

Geese

Season Dates: September 4, 2022-January 2, 2023.

Daily Bag and Possession Limits: No more than 3 light geese. The season on Aleutian Canada/cackling geese is closed.

Brant

Season Dates: Season closed.

Mourning Doves and Band-Tailed Pigeons

Season Dates: September 1, 2022-February 27, 2023.

Daily Bag and Possession Limits: 10 mourning doves and 2 band-tailed pigeons. The possession limits are two times the daily bag limits.

Snipe

Season Dates: September 4, 2022-January 2, 2023.

Daily Bag and Possession Limits: 8 snipe. The possession limits are two times the daily bag limit.

General Conditions: All Tribal hunters authorized to hunt migratory birds are required to obtain a Tribal hunting permit from the Lower Elwha Klallam Tribe pursuant to Tribal law. Hunting hours are from one-half hour before sunrise to sunset. Only steel, tungsten-iron, tungsten-polymer, tungsten-matrix, and tin shot are allowed for hunting waterfowl. It is unlawful to use or possess lead shot while hunting waterfowl. Tribal reservation police and Tribal fisheries enforcement officers have the authority to enforce these migratory bird hunting regulations for the Lower Elwha Klallam Tribe.

(m) Makah Indian Tribe, Neah Bay, Washington (Tribal Members Only).

Ducks and Coots

Season Dates: September 24, 2022-January 31, 2023.

Daily Bag Limits: 7 ducks, including no more than 7 mallards (only 2 female mallards), 2 canvasbacks, 1 pintail, 3 scaup, and 2 redheads. The daily bag limit for coots is 25. The Tribe has a year-round closure on wood ducks and harlequin ducks.

Geese

Season Dates: September 24, 2022-January 31, 2023.

Daily Bag Limits: 4 Canada/cackling geese, 10 white-fronted geese, 10 light geese, and 2 brant. The Tribe notes that there is a year-round closure on dusky Canada geese.

Band-Tailed Pigeons

Season Dates: September 15-23, 2022.

Daily Bag Limits: 2 band-tailed pigeons.

General Conditions: All other Federal regulations contained in 50 CFR part 20 apply. The following restrictions also apply:

1. As per Makah Ordinance 44, only shotguns may be used to hunt any species of waterfowl. Additionally, shotguns must not be discharged within 300 feet of an occupied building, occupied area, or active logging operation.

2. Hunters must be eligible enrolled Makah Tribal members and must carry their Indian Treaty Fishing and Hunting Identification Card while hunting. See Makah General Hunting Regulations.

3. The Makah Reservation Area is open except in designated wilderness areas, or within 1 mile of Cape Flattery and Shi-Shi Trails, or in any area that is closed to hunting by another ordinance or regulation.

4. The use of live decoys and/or baiting to pursue any species of waterfowl is prohibited.

5. Only approved nontoxic shot is allowed for waterfowl; the use of lead shot is prohibited.

6. The use of dogs is permitted to hunt all species of waterfowl.

7. Shooting hours for all species of waterfowl are one-half hour before sunrise to sunset.

8. Hunters must report any neck or leg bands placed by the Federal Government to Natural Resources Enforcement or by calling 1-800-327-BAND.

(n) Muckleshoot Indian Tribe, Auburn, Washington (Tribal Members Only).

Ducks, Mergansers, and Coots

Season Dates: September 1, 2022-March 10, 2023.

Daily Bag Limits: 7, including no more than 2 female mallards, 2 canvasbacks, 2 pintail, 3 scaup, 2 redheads, 2 scoters, 2 long-tailed ducks, and 2 goldeneyes. The daily bag limit for coots is 25. The limit on harlequin ducks is 1 per season.

Geese

Season Dates: September 1, 2022-March 10, 2023.

Daily Bag Limits: 4 Canada/cackling geese, 6 light geese, 10 white-fronted geese, and 2 brant. The season on dusky Canada geese is closed.

Band-Tailed Pigeons, Mourning Doves, and Snipe

Season Dates: September 1, 2022-March 10, 2023.

Daily Bag Limits: 2 band-tailed pigeons, 15 mourning doves, and 8 snipe.

General Conditions: The possession limits are three times the daily bag limits on all species unless otherwise noted. All other Federal regulations contained in 50 CFR part 20 apply. The following restrictions also apply:

1. Hunting can occur on reservation and off reservation on lands where the Tribe has treaty-reserved hunting rights or has documented traditional use.

2. Shooting hours for all species of waterfowl are one-half hour before sunrise to one-half after sunset.

3. Hunters must be eligible enrolled Muckleshoot Tribal members and must carry their Tribal identification while hunting.

4. Tribal members hunting migratory birds must also have a combined Migratory Bird Hunting Permit and Harvest Report Card.

5. The use of live decoys and/or baiting to pursue any species of waterfowl is prohibited.

6. Hunting for migratory birds is with shotgun only. Only steel, tungsten-iron, tungsten-polymer, tungsten-matrix, and tin shot are allowed for hunting waterfowl. It is unlawful to use or possess lead shot while hunting waterfowl.

(o) Navajo Nation, Navajo Indian Reservation, Window Rock, Arizona (Tribal Members and Nontribal Hunters).

Ducks, Mergansers, Canada/Cackling Geese, and Coots

Season Dates: Earliest opening dates with a split season to end on the last day of the season.

Daily Bag and Possession Limits: Same as State of Arizona.

Mourning Doves

Season Dates: September 1-30, 2022.

Daily Bag and Possession Limits: 10 mourning doves. Possession limits are two times the daily bag limits.

Band-Tailed Pigeons

Season Dates: September 1-14, 2022.

Daily Bag and Possession Limits: 2 band-tailed pigeons. Possession limits are two times the daily bag limits.

General Conditions: Tribal members and nontribal hunters must comply with all basic Federal migratory bird hunting regulations in 50 CFR part 20 pertaining to shooting hours and manner of taking. In addition, each waterfowl hunter aged 16 or older must carry on his/her person a valid Duck Stamp, which must be signed in ink across the face. Special regulations established by the Navajo Nation also apply on the reservation.

(p) Oneida Tribe of Indians of Wisconsin, Oneida, Wisconsin (Tribal Members Only).

Ducks

Season Dates: September 10-December 4, 2022.

Daily Bag and Possession Limits: 6 ducks, which can include no more than 3 female mallards, 2 redheads, 2 pintail, and 2 hooded mergansers. The possession limit is 24 ducks in the aggregate.

Geese

Season Dates: September 1-December 31, 2022.

Daily Bag and Possession Limits: 5 geese (Canada/cackling geese, snow/blue geese, Ross's geese, and brant) and 20 in the aggregate. If 500 geese are harvested before the season concludes, the Tribe will recommend closing the season early.

Woodcock

Season Dates: September 1-November 6, 2022.

Daily Bag and Possession Limits: 2 and 4, respectively.

Mourning Doves

Season Dates: September 1-November 6, 2022.

Daily Bag and Possession Limits: 10 and 20, respectively.

General Conditions: Shooting hours are one-half hour before sunrise to 15 minutes after sunset. Nontribal hunters hunting on the Reservation or on lands under the jurisdiction of the Tribe must comply with all State of Wisconsin regulations, including shooting hours of one-half hour before sunrise to sunset, season dates, and daily bag limits. Tribal members and nontribal hunters hunting on the Reservation or on lands under the jurisdiction of the Tribe must observe all basic Federal migratory bird hunting regulations found in 50 CFR part 20, with the following exceptions: Oneida members are exempt from the purchase of the Duck Stamp, and shotgun capacity is not limited to three shells.

(q) Point No Point Treaty Council Tribes, Kingston, Washington (Tribal Members Only).

Ducks, Mergansers, and Coots

Season Dates: September 1, 2022-March 10, 2023.

Daily Bag and Possession Limits: 7 ducks and mergansers. The daily bag and possession limits on harlequin ducks are 1 per season. The daily bag limits are 7 for coots. Possession limits are three times the daily bag limits.

Geese

Season Dates: September 1, 2022-March 10, 2023.

Daily Bag and Possession Limits: 5 Canada/cackling geese, 6 light geese, and 10 white-fronted geese. There is a year-round closure on dusky Canada geese.

Brant

Season Dates: January 1-31, 2023, for the Port Gamble S'Klallam Tribe, and January 15-31, 2023, for the Jamestown S'Klallam Tribe.

Daily Bag and Possession Limits: 2 brant. Possession limits are three times the daily bag limits.

Band-Tailed Pigeons

Season Dates: September 15-November 30, 2022.

Daily Bag and Possession Limits: 2 band-tailed pigeons. Possession limits are three times the daily bag limits.

Snipe

Season Dates: September 1, 2022-March 10, 2023.

Daily Bag and Possession Limits: 8 snipe. Possession limits are three times the daily bag limits.

Mourning Doves

Season Dates: September 1, 2022-March 10, 2023.

Daily Bag and Possession Limits: 10 mourning doves. Possession limits are three times the daily bag limits.

General Conditions: Tribal members must possess a Tribal hunting permit from the Point No Point Tribal Council pursuant to Tribal law. Hunting hours are from one-half hour before sunrise to sunset. Hunters must observe all other basic Federal migratory bird hunting regulations in 50 CFR part 20. The Tribal fish and wildlife enforcement officers have the authority to enforce these Tribal regulations.

(r) Saginaw Tribe of Chippewa Indians, Mt. Pleasant, Michigan (Tribal Members Only).

Ducks, Mergansers, and Snipe

Season Dates: September 1, 2022-January 31, 2023.

Daily Bag Limits: 20 ducks, which can include no more than 5 each of the following: female mallards, wood ducks, black ducks, pintail, redhead, scaup, and canvasbacks. The possession limit is 40 ducks. The daily bag limit for mergansers is 10, no more than 5 of which may be hooded mergansers, and 16 snipe.

Geese, Coots, Gallinules, Sora, and Virginia Rails

Season Dates: September 1, 2022-January 31, 2023.

Daily Bag Limits: 20 geese, 20 coots and gallinules in aggregate, 20 sora and Virginia rails in aggregate.

Woodcock and Mourning Doves

Season Dates: September 1, 2022-January 31, 2023.

Daily Bag Limits: 10 woodcock and 25 mourning doves.

Sandhill Cranes

Season Dates: September 1, 2022-January 31, 2023.

Daily Bag Limits: 1 sandhill crane.

General Conditions: Possession limits are twice the daily bag limits except for rails, of which the possession limit equals the daily bag limit (20). Tribal members must possess a Tribal hunting permit from the Saginaw Tribe pursuant to Tribal law. Shooting hours are one-half hour before sunrise until one-half hour after sunset. Hunters must observe all other basic Federal migratory bird hunting regulations in 50 CFR part 20, including the use of only nontoxic shot for hunting waterfowl.

(s) Sauk-Suiattle Indian Tribe, Darrington, Washington (Tribal Members Only).

Ducks, Geese, Brant, Coots, Mourning Doves, and Band-Tailed Pigeons

Season Dates: September 1, 2022-March 10, 2023.

Daily Bag and Possession Limits: 20 ducks, 10 geese, 5 brant, and 25 coots. The daily bag limit for mourning doves and band-tailed pigeons is 20 in the aggregate. The possession limits are two times the daily bag limits.

General Conditions: Hunting hours are from one-half hour before sunrise to one-half hour after sunset. All other regulations in 50 CFR part 20 apply, including the use of only nontoxic shot for hunting waterfowl.

(t) Sault Ste. Marie Tribe of Chippewa Indians, Sault Ste. Marie, Michigan (Tribal Members Only).

Ducks, Mergansers, and Snipe

Season Dates: September 1-December 31, 2022.

Daily Bag Limits: 20 ducks, which can include no more than 10 mallards (5 female mallards), 5 wood ducks, 5 black ducks, and 5 canvasbacks. The daily bag limits are 10 for mergansers and 16 for snipe.

Geese, Coots, Gallinules, Sora, and Virginia Rails

Season Dates: September 1-December 31, 2022. In addition, any portion of the ceded territory that is open to State-licensed hunters for goose hunting after December 31 is also opened concurrently for Tribal members.

Daily Bag Limits: 20 geese, 20 coots and gallinules in the aggregate, 20 sora and Virginia rails in the aggregate.

Woodcock

Season Dates: September 2-December 1, 2022.

Daily Bag Limits: 10 woodcock.

Mourning Doves

Season Dates: September 1-November 14, 2022.

Daily Bag Limits: 10 mourning doves.

General Conditions: Possession limits are twice the daily bag limits except for rails, of which the possession limit equals the daily bag limit (20). Tribal members who wish to hunt must possess a Tribal hunting permit from the Sault Ste. Marie Tribe pursuant to Tribal law. Shooting hours are one-half hour before sunrise until one-half hour after sunset. Hunters must observe all other basic Federal migratory bird hunting regulations in 50 CFR part 20, including the use of only nontoxic shot for hunting waterfowl.

(u) Skokomish Tribe, Shelton, Washington (Tribal Members Only).

Ducks and Coots

Season Dates: September 16, 2022-February 28, 2023.

Daily Bag and Possession Limits: 7 ducks, including no more than 2 female mallards, 1 pintail, 1 canvasback, and 2 redheads. The daily bag and possession limits for harlequin ducks are 1 per season. The daily bag limits for coots are 25. The possession limits are two times the daily bag limits, except as noted above.

Geese

Season Dates: September 16, 2022-February 28, 2023.

Daily Bag and Possession Limits: 4, including no more than 3 light geese. The possession limits are two times the daily bag limits. Closed season on Aleutian Canada geese.

Brant

Season Dates: November 1, 2022-February 15, 2023.

Daily Bag and Possession Limits: 2 brant. The possession limits are two times the daily bag limits.

Mourning Doves, Band-Tailed Pigeons, and Snipe

Season Dates: September 16, 2022-February 28, 2023.

Daily Bag and Possession Limits: 10 mourning doves, 2 band-tailed pigeons, and 8 snipe. The possession limits are two times the daily bag limits.

General Conditions: All Tribal members authorized to hunt migratory birds are required to obtain a Tribal hunting permit from the Skokomish Tribe pursuant to Tribal law. Shooting hours are from one-half hour before sunrise to sunset. Only steel, tungsten-iron, tungsten-polymer, tungsten-matrix, and tin shot are allowed for hunting waterfowl. It is unlawful to use or possess lead shot while hunting waterfowl. The Skokomish Public Safety Office enforcement officers have the authority to enforce these migratory bird hunting regulations.

(v) Spokane Tribe of Indians, Spokane Indian Reservation, Wellpinit, Washington (Tribal Members Only).

Ducks

Season Dates: September 2, 2022-January 31, 2023.

Daily Bag and Possession Limits: Same as State of Washington.

Geese

Season Dates: September 2, 2022-January 31, 2023.

Daily Bag and Possession Limits: Same as State of Washington.

General Conditions: Tribal members must possess a Tribal hunting permit from the Spokane Indian Tribe pursuant to Tribal law. Shooting hours are one-half hour before sunrise until sunset. Hunters must observe all other basic Federal migratory bird hunting regulations in 50 CFR part 20.

(w) Stillaguamish Tribe of Indians, Arlington, Washington (Tribal Members Only).

Ducks and Geese

Season Dates: October 1, 2022-March 10, 2023.

Daily Bag and Possession Limits: 10 ducks (including sea ducks and mergansers), no more than 7 mallards (3 of which may be female), 3 pintail, 3 redheads, 3 scaup, 4 hooded mergansers, and 3 canvasbacks. Possession limits are two times the daily bag limits. Six Canada/cackling geese, 12 white-fronted geese, and 8 light geese. The possession limits are three times the daily bag limits. The season on brant is closed.

Coots, Snipe, and Swans

Season Dates: October 1, 2022-January 31, 2023.

Daily Bag and Possession Limits: 25 coots and 10 snipe. The possession limits are two times the daily bag limits. The daily bag and possession limits for swans are 2 per season. Swan hunters must have a swan hunting permit issued by the Tribe.

General Conditions: Tribal members hunting on lands must observe all basic Federal migratory bird hunting regulations found in 50 CFR part 20, which will be enforced by the Stillaguamish Tribal Law Enforcement. Tribal members are required to use steel shot or a nontoxic shot as required by Federal regulations. The swan season is by special draw permit only.

(x) Swinomish Indian Tribal Community, LaConner, Washington (Tribal Members Only).

Ducks (Including Mergansers), Geese, Coots, Snipe, Brant, Mourning Doves, and Band-Tailed Pigeon

Season Dates: September 1, 2022-March 10, 2023.

Daily Bag and Possession Limits: 20 ducks, 10 geese, 5 brant, 25 coots, 15 snipe, 15 mourning doves, and 3 band-tailed pigeons. The possession limits are two times the daily bag limits, except that the possession limit for coots is three times the daily bag limit.

General Conditions: Shooting hours are from 30 minutes before official sunrise until 30 minutes after official sunset. Tribal members must use steel shot or a nontoxic shot as required by Federal regulations. Lead shot is prohibited. All Tribal regulations will be enforced by Tribal fish and game officers.

(y) The Tulalip Tribes of Washington, Tulalip Indian Reservation, Marysville, Washington (Tribal Members Only).

Ducks (Including Mergansers), Coots, and Snipe

Season Dates: September 1, 2022-February 28, 2023.

Daily Bag and Possession Limits: 15 ducks and 30 in possession, except for blue-winged teal, canvasbacks, harlequin ducks, pintail, and wood ducks. Daily bag and possession limits are the same as the limits established by the State of Washington. 25 coots and 75 in possession. 8 snipe and 24 in possession. Ceremonial hunting may be authorized by the Department of Natural Resources at any time upon application of a qualified Tribal member. Such a hunt must have a bag limit designed to limit harvest only to those birds necessary to provide for the ceremony.

Geese

Season Dates: September 1, 2022-February 28, 2023.

Daily Bag and Possession Limits: 10 geese and 30 in possession, except that the bag limits for cackling geese and dusky Canada geese are the same as the limits established by the State of Washington. 5 brant and 10 in possession.

Mourning Doves and Band-Tailed Pigeons

Season Dates: September 1, 2022-February 28, 2023.

Daily Bag and Possession Limits: 15 mourning doves and 45 in possession. 4 band-tailed pigeons and 12 in possession.

General Conditions: All hunters on Tulalip Tribal lands must adhere to shooting hour regulations set at one-half hour before sunrise to sunset, the use of federally approved nontoxic shot, special Tribal permit requirements, and a number of other Tribal regulations enforced by the Tribe. Each nontribal hunter 16 years of age and older hunting pursuant to Tulalip Tribes' Ordinance No. 67 must possess a valid Federal Duck Stamp and a valid State of Washington Migratory Waterfowl Stamp. Each hunter must validate the stamp by signing across the face.

(z) Upper Skagit Indian Tribe, Sedro Woolley, Washington (Tribal Members Only).

Ducks

Season Dates: October 1, 2022-February 28, 2023.

Daily Bag and Possession Limits: 15 ducks and 20 in possession.

Coots

Season Dates: October 1, 2022-February 15, 2023.

Daily Bag and Possession Limits: 20 coots and 30 in possession.

Geese

Season Dates: October 1, 2022-February 28, 2023.

Daily Bag and Possession Limits: 7 geese and 10 in possession.

Brant

Season Dates: November 1-10, 2022.

Daily Bag and Possession Limits: 2 brant and 2 in possession.

Mourning Doves

Season Dates: September 1-December 31, 2022.

Daily Bag and Possession Limits: 12 mourning doves and 15 in possession.

General Conditions: Tribal members must have the Tribal identification and harvest report card on their person to hunt. Tribal members hunting on the Reservation will observe all basic Federal migratory bird hunting regulations found in 50 CFR part 20, except shooting hours are 15 minutes before official sunrise to 15 minutes after official sunset.

(aa) Ute Indian Tribe of the Uintah and Ouray Reservation (Tribal Members Only).

Sandhill Cranes

Season Dates: October 1-December 11, 2022.

Daily Bag and Possession Limits: 1 sandhill crane per member/permit (10 permits total).

Swans (Tundra/Trumpeter)

Season Dates: September 17-October 1, 2022.

Daily Bag and Possession Limits: 1 swan per member/permit (5 permits total). The Tribe requires all swan hunters to successfully complete an educational course on swan identification and conservation to minimize take of trumpeter swans during the swan season. All hunters that harvest a swan must have the swan or species-determinant parts examined by a biologist or other designated representative of the Tribe within 72 hours of harvest for species determination. The Tribe will evaluate hunter participation, species-specific swan harvest, and hunter compliance in providing species-determinant parts (at least the intact head) of harvested swans for species identification. The Tribe will use appropriate measures to maximize hunter compliance with the Tribe's program for swan harvest reporting. The Tribe will provide to the Service by June 30 following the swan season a report detailing hunter participation, species-specific swan harvest, and hunter compliance in reporting harvest.

General Conditions: No rifles, revolvers, pistols, or shotgun pellets larger than #2 birdshot may be used in pursuit of migratory game birds. Only Service-approved nontoxic shot may be used to take migratory game birds. No baiting is allowed, including no take of sandhill cranes on or over lands where standing crops have been manipulated to distribute or scatter grain or other feed on the land where it was grown. The Tribe hunts other migratory game birds but follows the State of Utah (Uintah and Duchesne Counties) for seasons and bag limits except for in some cases where the Tribe may be more restrictive. For additional information, see the Ute Indian Tribes General Hunting Regulations.

(bb) White Earth Band of Ojibwe, White Earth, Minnesota (Tribal Members Only).

Ducks

Season Dates: September 10-December 11, 2022.

Daily Bag Limits: 10 ducks, including no more than 2 female mallards, 2 pintail, and 2 canvasbacks.

Mergansers

Season Dates: September 10-December 11, 2022.

Daily Bag Limits: 5 mergansers, no more than 2 of which may be hooded mergansers.

Geese

Season Dates: Early season is September 1-23, 2022, and late season is September 24-December 18, 2022.

Daily Bag Limits: 10 geese in the early season and 7 geese in the late season.

Coots

Season Dates: September 1-November 30, 2022.

Daily Bag Limits: 20 coots.

Snipe, Woodcock, Rails, and Mourning Doves

Season Dates: September 1-November 30, 2022.

Daily Bag Limits: 10 snipe, 10 woodcock, 25 rails, and 25 mourning doves.

General Conditions: Shooting hours are one-half hour before sunrise to one-half hour after sunset. Nontoxic shot is required. The White Earth Reservation Tribal Council employs four full-time conservation officers to enforce migratory bird regulations.

(cc) White Mountain Apache Tribe, Fort Apache Indian Reservation, Whiteriver, Arizona (Tribal Members and Nontribal Hunters).

Ducks (Except Scaup), Coots, Mergansers, Gallinules

Season Dates: October 15, 2022-January 22, 2023 (scaup November 5, 2022-January 22, 2023).

Daily Bag Limits: 7 ducks (including mergansers), which may include no more than 2 redheads, 1 pintail, 2 scaup (when open), 2 female mallards, and 2 canvasbacks. The daily bag limit for coots and gallinules is 25 in the aggregate.

Canada/Cackling Geese

Season Dates: October 15, 2022-January 22, 2023.

Daily Bag Limits: 3 Canada/cackling geese.

General Conditions: Possession limits are two times the daily bag limits. Shooting hours are from one-half hour before sunrise to sunset. There is no open season for mourning doves, band-tailed pigeons, sandhill cranes, rails, and snipe. Tribal members and nontribal hunters must comply with all basic Federal migratory bird hunting regulations in 50 CFR part 20. Special regulations that apply to Tribal members and nontribal hunters may be obtained from the White Mountain Apache Tribe Game and Fish Department.

Maureen D. Foster,
Chief of Staff, Office of the Assistant Secretary for Fish and Wildlife and Parks.

[FR Doc. 2022-18747 Filed 8-30-22; 8:45 am]

BILLING CODE 4333-15-P